DEPARTMENT OF HEALTH AND HUMAN SERVICES

42 CFR Part 100

RIN 0906-AB24

National Vaccine Injury Compensation Program: Revisions to the Vaccine Injury Table; Correction

AGENCY: Health Resources and Services Administration (HRSA), U.S. Department of Health and Human Services (HHS).

ACTION: Notification; correction.

SUMMARY: HHS published a document on October 29, 2020, announcing a public hearing to receive information and views on the notice of proposed rulemaking (NPRM) entitled “National Vaccine Injury Compensation Program: Revisions to the Vaccine Injury Table.” The deadline to give oral notice of participation when there may be insufficient time to submit the required information in writing has changed from October 26, 2020, to November 5, 2020.

DATES: November 6, 2020.

FOR FURTHER INFORMATION CONTACT: Tamara Overby, Acting Director, DICP, Healthcare Systems Bureau (HSB), HRSA, 5600 Fishers Lane, 08N-142, Rockville, Maryland 20857; 855-266-2427 or by email TOverby@hrsa.gov.

SUPPLEMENTARY INFORMATION:

Correction

In the Federal Register of October 29, 2020, in FR Doc. 2020-23340, on page 68540, in the third column, in the fourth paragraph, correct the date October 26, 2020, to November 5, 2020.

Wilma M. Robinson,
Deputy Executive Secretary, Department of Health and Human Services.

[FR Doc. 2020-24774 Filed 11-4-20; 8:45 am]

BILLING CODE 4165-15-P